DEPARTMENT OF TRANSPORTATION

Surface Transportation Board

[STB Docket No. AB-1000 (Sub-No. 1X)]

Georgia Southwestern Railroad, Inc.—Abandonment and Discontinuance Exemption—in Harris and Meriwether Counties, GA

On August 22, 2007, Georgia Southwestern Railroad, Inc. (GSWR) filed with the Board a petition under 49 U.S.C. 10502 for exemption from the provisions of 49 U.S.C. 10903 to abandon a 43-mile line of railroad between milepost R-12.0 at Florida Rock and milepost R-55.0 at Allie, in Harris and Meriwether Counties, GA, and to discontinue overhead trackage rights over a line owned by Central of Georgia Railroad Company (CGR) between milepost R-2.0 north of Columbus and milepost R-12.0 at Florida Rock, in Harris County, GA.¹ The lines traverse United States Postal Service Zip Codes 30222, 31804, 31811, and 31822. The line GSWR seeks to abandon includes no stations.

¹ GSWR obtained the line it seeks to abandon and a total of 12.2 miles of incidental overhead trackage rights from CGR in 2005. See Georgia Southwestern Railroad, Inc.—Acquisition and Operation Exemption—Central of Georgia Railroad Company, STB Finance Docket No. 34699 (STB served May 20, 2005). The trackage rights extended from milepost M-290.3 at South Columbus to milepost M-290.9/P-290.9 at Columbus and from milepost P-291.7/R-1.2 at West Columbus to milepost R-12.0 at Florida Rock, in Harris and Muscogee Counties, GA.

The line sought to be abandoned does not contain federally granted rights-of-way. Any documentation in GSWR's possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by December 10, 2007.

Any offer of financial assistance (OFA) under 49 CFR 1152.27(b)(2) will be due no later than 10 days after service of a decision granting the petition for exemption. Each OFA must be accompanied by a $1,300 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 1, 2007. Each trail use request must be accompanied by a $200 filing fee. See 49 CFR 1002.2(f)(27).

All filings in response to this notice must refer to STB Docket No. AB-1000 (Sub-No. 1X), and must be sent to: (1) Surface Transportation Board, 395 E Street, SW., Washington, DC 20423-0001; and (2) Karl Morell, Ball Janik LLP, 1455 F Street, NW., Suite 225, Washington, DC 20005. Replies to the petition are due on or before October 1, 2007.

Persons seeking further information concerning abandonment procedures may contact the Board's Office of Public Services at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: August 31, 2007.
By the Board, David M. Konschnik, Director, Office of Proceedings.
Vernon A. Williams,
Secretary.

[FR Doc. E7-17733 Filed 9-10-07; 8:45 am]

BILLING CODE 4915-01-P